DEPARTMENT OF THE INTERIOR

National Park Service

[NPS-WASO-NAGPRA-NPS0032963; PPWOCRADN0-PCU00RP14.R50000]

Notice of Inventory Completion: Michigan State University, East Lansing, MI

AGENCY: National Park Service, Interior.

ACTION: Notice.

SUMMARY: Michigan State University has completed an inventory of human remains and associated funerary objects, in consultation with the appropriate Indian Tribes or Native Hawaiian organizations and has determined that there is no cultural affiliation between the human remains and associated funerary objects and any present-day Indian Tribes or Native Hawaiian organizations. Representatives of any Indian Tribe or Native Hawaiian organization not identified in this notice that wish to request transfer of control of these human remains and associated funerary objects should submit a written request to Michigan State University. If no additional requestors come forward, transfer of control of the human remains and associated funerary objects Indian Tribes or Native Hawaiian organizations stated in this notice may proceed.

DATES: Representatives of any Indian Tribe or Native Hawaiian organization not identified in this notice that wish to request transfer of control of these human remains and associated funerary objects should submit a written request with information in support of the request to Michigan State University at the address in this notice by December 8, 2021.

FOR FURTHER INFORMATION CONTACT: Judith Stoddart, Associate Provost for University Collections and Arts Initiatives, Michigan State University, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains and associated funerary objects under the control of Michigan State University, East Lansing, MI. The human remains and associated funerary objects were removed from an unknown geographic location.

This notice is published as part of the National Park Service's administrative responsibilities under NAGPRA, 25 U.S.C. 3003(d)(3) and 43 CFR 10.9(e). The determinations in this notice are the sole responsibility of the museum, institution, or Federal agency that has control of the Native American human remains and associated funerary objects. The National Park Service is not responsible for the determinations in this notice.

Consultation

A detailed assessment of the human remains was made by Michigan State University professional staff in consultation with representatives of the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan [previously listed as Huron Potawatomi, Inc.]; Pokagon Band of Potawatomi Indians, Michigan and Indiana; Saginaw Chippewa Indian Tribe of Michigan; Sault Ste. Marie Tribe of Chippewa Indians, Michigan; and two non-federally recognized Indian groups, the Burt Lake Band of Ottawa and Chippewa Indians, and the Grand River Band of Ottawa Indians.

The following Indian Tribes were also invited to consult but did not participate: The Absentee-Shawnee Tribe of Indians of Oklahoma; Bad River Band of the Lake Superior Tribe of Chippewa Indians of the Bad River Reservation, Wisconsin; Chippewa Cree Indians of the Rocky Boy's Reservation, Montana [previously listed as Chippewa-Cree Indians of the Rocky Boy's Reservation, Montana]; Citizen Potawatomi Nation, Oklahoma; Delaware Nation, Oklahoma; Delaware Tribe of Indians; Eastern Shawnee Tribe of Oklahoma; Forest County Potawatomi Community, Wisconsin; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Little Shell Tribe of Chippewa Indians of Montana; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Ottawa Tribe of Oklahoma; Peoria Tribe of Indians of Oklahoma; Prairie Band Potawatomi Nation [previously listed as Prairie Band of Potawatomi Nation, Kansas]; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Seneca Nation of Indians [previously listed as Seneca Nation of New York]; Seneca-Cayuga Nation [previously listed as Seneca-Cayuga Tribe of Oklahoma]; Shawnee Tribe; Sokaogon Chippewa Community, Wisconsin; St. Croix Chippewa Indians of Wisconsin; Stockbridge Munsee Community, Wisconsin; Tonawanda Band of Seneca [previously listed as Tonawanda Band of Seneca Indians of New York]; Turtle Mountain Band of Chippewa Indians of North Dakota; and the Wyandotte Nation.

Hereafter, all the Indian Tribes and non-federally recognized Indian groups listed in this section are referred to as “The Consulted and Notified Tribes and Groups.”

History and Description of the Remains

On an unknown date, human remains representing, at minimum, one individual were removed from an unknown geographic location. The human remains (2004.46.21) were acquired by Kalamazoo resident Donald Boudeman, who had collected Southwest Native American material culture during the first half of the twentieth century. In July of 1961, some years after her husband's death, Donna Boudeman donated the human remains (and parts of Mr. Boudeman's collection) to Michigan State University Museum. No known individual was identified. No associated funerary objects are present.

On an unknown date, human remains representing, at minimum, eight individuals were removed from an unknown geographic location. The human remains (20323; 6497 CW; 6504 CW; 6508 CW; 6509 CW; 6510 CW; 6511 CW; 6587 CW) were acquired by the Chamberlain Memorial Museum in Three Oaks, Michigan. (The Chamberlain Memorial Museum was founded in 1916 by Mr. Edward K. Warren.) In September of 1952, Michigan State College Museum (now Michigan State University Museum) acquired the contents of the Chamberlain Memorial Museum from Fred P. Warren, President of the Board of Trustees of the E. K. Warren Foundation. No known individuals were identified. No associated funerary objects are present.

On an unknown date, human remains representing, at minimum, one individual were removed from an unknown location. The human remains (2693.12) were acquired by the Chamberlain Memorial Museum. In September of 1952, Michigan State College Museum (now the Michigan State University Museum) acquired the contents of the Chamberlain Memorial Museum. No known individual was identified. The two associated funerary objects are one scraper (2693.28) and one lot of mica, biface, pendant, and adze (2693.28).

On an unknown date, human remains representing, at minimum, two individuals were removed from a mound in an unknown location. H. Bradley acquired the human remains (6499 CW) and subsequently gave them to the Chamberlain Memorial Museum. In September of 1952, Michigan State College Museum (now Michigan State University Museum) acquired the contents of the Chamberlain Memorial Museum. No known individuals were identified. No associated funerary objects are present.

On an unknown date, human remains representing, at minimum, one individual were removed from an unknown location. In July of 2019, the human remains (UP4) were discovered when cleaning out the office of former Michigan State University Anthropology Professor Dr. Norman Sauer. The box containing the remains was labeled “red ochre bones.” No known individual was identified. The one associated funerary object is one worked and polished slate (UP4).

On an unknown date, human remains representing, at minimum, eight individuals were removed from an unknown location. On October 4, 2017, the human remains (NA #1A; NA #1B) were found in the Michigan State University's Forensic Anthropology Laboratory. No known individuals were identified. The two associated funerary objects are one lot of grit-tempered sherds (NA #1A; NA #1B) and one lot of modified shell (NA #1A; NA #1B).

On an unknown date, human remains representing, at minimum, 15 individuals were removed from an unknown location. On October 4, 2017, the human remains (4; 6; 634M (vault absent); 634M (vault present); MC2-1; MC2-2; MC2-3; MC3-1; MC3-2; MC4; UP3) were found in the Michigan State University's Forensic Anthropology Laboratory. No known individuals were identified. No associated funerary objects are present.

On an unknown date, human remains representing, at minimum, one individual were removed from an unknown location. On October 4, 2017, the human remains (UP1) were found in the Michigan State University's Forensic Anthropology Laboratory. No known individual was identified. The two associated funerary objects are one lot of fabric (UP1) and one lot of buttons (UP1).

On an unknown date, human remains representing, at minimum, two individuals were removed from an unknown location. On October 4, 2017, the human remains (UP2) were found in the Michigan State University's Forensic Anthropology Laboratory. No known individuals were identified. The four associated funerary objects are two lithics (UP2), one gorget (UP2), and one unidentified animal bone (UP2).

On an unknown date, human remains representing, at minimum, three individuals were removed from an unknown location. On October 4, 2017, the human remains (31.2576; 31.2576-96) were found in the Michigan State University's Forensic Anthropology Laboratory. A number associated with these remains resembles a police case number, but no such case could be located. No known individuals were identified. No associated funerary objects are present.

On an unknown date, human remains representing, at minimum, one individual were removed from an unknown location. On September 20, 2018, the MSU Forensic Anthropology Laboratory received the human remains (FA 005-19) from the Department of Human Anatomy at Michigan State University. No known individual was identified. No associated funerary objects are present.

Based on the available information, the land from which these human remains and associated funerary objects were removed is not the “tribal land” of an Indian Tribe or a Native Hawaiian organization, or the “aboriginal land” of an Indian Tribe pursuant to 43 CFR 10.11.

Pursuant to 25 U.S.C. 3006(c)(5) and 43 CFR 10.10(g)(2)(ii) and 10.16, the Native American Graves Protection and Repatriation Review Committee (Review Committee) may make a recommendation to the Secretary of the Interior (Secretary) for specific actions for disposition of any human remains and associated funerary objects not already addressed in 43 CFR 10.11. In June 2021, Michigan State University requested that the Review Committee consider a proposal to transfer control of the human remains and associated funerary objects in this notice jointly to the Match-e-be-nash-she-wish Band of Pottawatomi Indians of Michigan and the Sault Ste. Marie Tribe of Chippewa Indians, Michigan. The Review Committee carefully considered the request at its July 7, 2021 meeting and recommended to the Secretary that the proposed transfer of control proceed. An October 19, 2021 letter transmitted the Secretary's independent review and concurrence with the Review Committee that:

• Michigan State University consulted with every appropriate Indian Tribe,

• None of The Consulted and Notified Tribes and Groups objected to the proposed transfer of control to the Match-e-be-nash-she-wish Band of Pottawatomi Indians of Michigan and the Sault Ste. Marie Tribe of Chippewa Indians, Michigan, and

• Michigan State University may proceed with the agreed upon transfer of control of the human remains and associated funerary objects to the Match-e-be-nash-she-wish Band of Pottawatomi Indians of Michigan and the Sault Ste. Marie Tribe of Chippewa Indians, Michigan.

Transfer of control is contingent on the publication of a Notice of Inventory Completion in the Federal Register. This notice fulfills that requirement.

Determinations Made by Michigan State University

Officials of Michigan State University have determined that:

• Pursuant to 25 U.S.C. 3001(9), the human remains described in this notice are Native American based on biological evidence and museum and lab records.

• Pursuant to 25 U.S.C. 3003(e), the human remains described in this notice represent the physical remains of 43 individuals of Native American ancestry.

• Pursuant to 25 U.S.C. 3001(3)(A), the 11 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.11, the land from which these human remains and associated funerary objects were removed is not the “tribal land” of any Indian Tribe or Native Hawaiian organization, or the “aboriginal land of any Indian Tribe.

• Pursuant to 43 CFR 10.10(g)(2)(ii) and 10.16, the disposition of the human remains and associated funerary objects will be to the Match-e-be-nash-she-wish Band of Pottawatomi Indians of Michigan and the Sault Ste. Marie Tribe of Chippewa Indians, Michigan.

Additional Requestors and Disposition

Representatives of any Indian Tribe or Native Hawaiian organization not identified in this notice that wish to request transfer of control of these human remains and associated funerary objects should submit a written request with information in support of the request to Judith Stoddart, Associate Provost for University Collections and Arts Initiatives, Michigan State University, 466 W Circle Drive, East Lansing, MI 48824-1044, telephone (517) 432-2524, email stoddart@msu.edu, by December 8, 2021. After that date, if no additional requestors have come forward, transfer of control of the human remains and associated funerary objects to the Match-e-be-nash-she-wish Band of Pottawatomi Indians of Michigan and the Sault Ste. Marie Tribe of Chippewa Indians, Michigan, may proceed.

Michigan State University is responsible for notifying The Consulted and Notified Tribes and Groups that this notice has been published.

Dated: October 29, 2021.
Melanie O'Brien,
Manager, National NAGPRA Program.

[FR Doc. 2021-24306 Filed 11-5-21; 8:45 am]

BILLING CODE 4312-52-P